DEPARTMENT OF VETERANS AFFAIRS

Tiered Pharmacy Copayments for Medications Update

AGENCY: Department of Veterans Affairs.

ACTION: Notice.

SUMMARY: This Department of Veterans Affairs (VA) Notice updates the information on Tier 1 medications.

FOR FURTHER INFORMATION CONTACT: Joseph Duran, Director of Policy and Planning, Office of Community Care, Veterans Health Administration, Department of Veterans Affairs, 810 Vermont Avenue NW, Washington, DC 20420; email: Joseph.Duran2@va.gov; telephone: (303) 372-4629 (this is not a toll-free number).

SUPPLEMENTARY INFORMATION: Section 17.110 of Title 38 CFR governs copayments for medications that VA provides to Veterans. Section 17.110 provides the methodologies for establishing the copayment amount for each 30-day or less supply of medication provided by VA on an outpatient basis (other than medication administered during treatment).

Section 17.110 provides a list of Tier 1 medications that will be published as a Notice in the Federal Register and will be posted on VA's website (www.va.gov/health) at least once per year. Tier 1 medication means a multi-source medication that has been identified using the process described in Section 17.110(b)(2). 38 CFR Section 17.110(b)(1)(iv)(B). Based on the methodologies set forth in Section 17.110, this Notice updates the list of Tier 1 medications.

Not less than once per year, VA will identify a subset of multi-source medications as Tier 1 medications. Only medications that meet all of the criteria in paragraphs (b)(2)(i), (ii), and (iii) of Section 17.110 will be eligible to be considered Tier 1 medications, and only those medications that meet all of the criteria in paragraph (b)(2)(i) of this section will be assessed using the criteria in paragraphs (b)(2)(ii) and (iii). As of the date of this Notice, the Tier 1 medication list based on the methodologies in Section 17.110 will be posted on VA's website (www.va.gov/health) under the heading “Tier 1 Copay Medication List.”

The following table is the Tier 1 Copay Medication List that is effective January 1, 2019, and will remain in effect until December 31, 2019.

Condition | VA product name
Arthritis and Pain | Aspirin Buffered Tablet, Aspirin Chewable Tablet, Aspirin Enteric Coated Tablet, Allopurinol Tablet, Ibuprofen Tablet, Meloxicam Tablet, Naproxen Tablet.
Blood Thinners and Platelet Inhibitors | Clopidogrel Bisulfate Tablet, Warfarin Sodium Tablet.
Bone Health | Alendronate Tablet.
Cholesterol | Atorvastatin Tablet, Gemfibrozil Tablet, Lovastatin Tablet, Niacin (Slo-Niacin) Tablet, Pravastatin Tablet, Rosuvastatin Calcium Tablet, Simvastatin Tablet.
Dementia | Donepezil Tablet, Memantine Hydrochloride (HCL) Tablet.
Diabetes | Glipizide Tablet, Metformin HCL Tablet, Metformin HCL 24-hour (HR) Sustained Action (SA) Tablet, Pioglitazone HCL Tablet.
Electrolyte Supplement | Potassium SA Tablet, Potassium SA Dispersible Tablet.
Gastrointestinal Health | Omeprazole Enteric Coated (EC) Capsule, Pantoprazole Sodium EC Capsule, Ranitidine Tablet.
Glaucoma and Eye Care | Brimonidine 0.2% Solution, Dorzolamide 2%/Timolol 0.5% Solution, Latanoprost 0.005% Solution, Timolol Maleate 0.25% Solution, Timolol Maleate 0.5% Solution.
Heart Health and Blood Pressure | Amlodipine Tablet, Amiodarone HCL Tablet, Aspirin (see Arthritis and Pain), Atenolol Tablet, Carvedilol Tablet, Chlorthalidone Tablet, Clonidine Tablet, Diltiazem 24-Hour Capsule, Diltiazem HCL Tablet, Enalapril Maleate Tablet, Furosemide Tablet, Hydrochlorothiazide Capsule/Tablet, Hydrochlorothiazide/Lisinopril Tablet, Hydrochlorothiazide/Triamteren Capsule/Tablet, Isosorbide Mononitrate SA Tablet, Lisinopril Tablet, Losartan Tablet, Metoprolol Succinate SA Tablet, Metoprolol Tartrate Tablet, Nifedipine SA Capsule, Nitroglycerin Sublingual Tablet, Prazosin HCL Capsule, Propranolol HCL Tablet, Spironolactone Tablet, Valsartan Tablet, Verapamil HCL Tablet, Verapamil HCL SA Tablet.
Mental Health | Amitriptyline HCL Tablet, Bupropion HCL Tablet, Bupropion HCL SA (12-HR Sustained Release) Tablet, Bupropion HCL SA (24-HR Extended Release XL) Tablet, Buspirone HCL Tablet, Citalopram Hydrobromide Tablet, Duloxetine HCL EC Capsule, Escitalopram Oxalate Tablet, Fluoxetine Capsule/Tablet, Lithium Carbonate Capsule/Tablet, Mirtazapine Tablet, Paroxetine HCL Tablet, Sertraline HCL Tablet, Trazodone Tablet, Venlafaxine HCL Tablet, Venlafaxine HCL SA Tablet/Capsule.
Respiratory Condition | Montelukast NA Tablet.
Seizures | Gabapentin Capsule, Lamotrigine Tablet, Topiramate Tablet.
Thyroid Conditions | Levothyroxine Sodium Tablet.
Urologic (Bladder and Prostate) Health | Alfuzosin HCL SA Tablet, Doxazosin Mesylate Tablet, Finasteride Tablet, Oxybutynin Chloride Tablet, Oxybutynin Chloride SA Tablet, Tamsulosin HCL Capsule, Terazosin HCL Capsule.

Signing Authority

The Secretary of Veterans Affairs, or designee, approved this document and authorized the undersigned to sign and submit the document to the Office of the Federal Register for publication electronically as an official document of the Department of Veterans Affairs. Robert L. Wilkie, Secretary, Department of Veterans Affairs, approved this document on March 14, 2019, for publication.

Dated: April 9, 2019.
Luvenia Potts,
Program Specialist, Office of Regulation Policy & Management, Office of the Secretary, Department of Veterans Affairs.

[FR Doc. 2019-07336 Filed 4-11-19; 8:45 am]

BILLING CODE 8320-01-P